Title 3—

The President

Proclamation 8711 of September 12, 2011

National Health Information Technology Week, 2011

By the President of the United States of America

A Proclamation

Technological advances have always driven America’s economy forward and improved the lives of our people, from the industrial innovations of the nineteenth century to today’s cutting-edge science. Progress in our Nation’s health care system is no different, and hinges on the work of hospitals, private practices, and information specialists as they modernize our health information systems. During National Health Information Technology Week, we highlight the critical importance of secure and efficient information systems to improving the delivery of health care in the United States.

Health information technology connects doctors and patients to more complete and accurate health records. Tools like electronic health records and electronic prescriptions help patients and providers make safer, smarter decisions about health care. This technology is critical to improving patient care, enabling coordination between providers and patients, reducing the risk of dangerous drug interactions, and helping patients access prevention and disease management services. It is currently being used with great success to coordinate and improve care for members of our Armed Forces, as well as our Nation’s veterans. Better technology can also cut costs for providers by reducing paperwork and duplicative tests.

Ensuring the security of health information records is a top priority for my Administration. The American Recovery and Reinvestment Act, passed in 2009, promotes the use of Health IT while significantly strengthening Federal laws protecting patient privacy. Entities violating privacy laws are now subject to increased penalties. The Recovery Act also provides landmark financial incentives to eligible professionals and hospitals that adopt and meaningfully use electronic health records while protecting the privacy and security of health information.

Everyone can play a role in improving our health care system. An important part of this vision is recognizing the pivotal role patients play in maintaining and improving their own health. Patients can work with their doctors to access information about their care. And those who design and implement Health IT systems can enable software that puts patients and their families at the center of their own care, empowering and engaging them in reaching their health goals.

America is home to the world’s best universities and technical schools, and the most creative scientists and entrepreneurs. As we challenge ourselves to push forward into a new century of health technology, we will continue to foster and promote the innovative spirit that has made our country what it is today.

NOW, THEREFORE, I, BARACK OBAMA, President of the United States of America, by virtue of the authority vested in me by the Constitution and the laws of the United States, do hereby proclaim September 11 through September 17, 2011, as National Health Information Technology Week. I urge all Americans to learn more about the benefits of Health IT by visiting HealthIT.gov, take action to increase adoption and meaningful use of Health IT, and utilize the information Health IT provides to improve the quality, safety, and cost effectiveness of health care in the United States.

IN WITNESS WHEREOF, I have hereunto set my hand this twelfth day of September, in the year of our Lord two thousand eleven, and of the Independence of the United States of America the two hundred and thirty-sixth.

[FR Doc. 2011-23924

Filed 9-14-11; 11:15 am]

Billing code 3195-W1-P